DEPARTMENT OF LABOR

Office of the Secretary

Submission for OMB Emergency Review; Comment Request

October 17, 2005.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by November 18, 2005. A copy of this ICR, with applicable supporting documentation, may be obtained by contacting Darrin King at (202) 693-4129 (this is not a toll-free number) or emailing king.darrin@dol.gov.

Comments and questions about the ICR listed below should be submitted to the Office of Information and Regulatory Affairs, Attn: OMB Desk Officer for the Department of Labor Center for Faith-Based and Community Initiatives, Office of Management and Budget, Room 10235, Washington, DC 20503 (202-395-7316), and received 5 days prior to the requested OMB approval date. The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Center for Faith-Based and Community Initiatives.

Title: Workforce Investment Board survey.

OMB Number: 1290-0NEW.

Frequency: One time.

Affected Public: State, Local, or Tribal Government.

Number of Respondents: Approximately 665.

Estimated Number of Responses: 532.

Estimated Time Per Respondent: 20 minutes.

Total Burden Hours: 180.

Total Burden Cost (capital/startup): $0.

Total Burden Cost (operating/maintaining): $0.

Description: DOL currently does not have a mechanism by which to obtain information regarding the grants, contracts, and cooperative agreements being awarded by local and state WIBs using Workforce Investment Act (WIA) funds. It is critical that DOL begin to obtain information about these grants, contracts, and cooperative agreements in order to better understand how much money is being spent and the types of organizations receiving the funds. DOL is especially interested in obtaining information on awards to faith-based organizations. DOL is interested in obtaining information about grants, contracts, and cooperative agreements using WIA youth funds in particular.

The WIB survey will bridge this gap in DOL-ETA's knowledge of WIB grants, contracts, and cooperative agreements using WIA youth funds. Through this survey, DOL plans to contact every state and local WIB, rather than a representative sample of WIBs. This is because DOL wants to obtain not only summary information about the grants, contracts, and cooperative agreements (e.g., average amount, average number awarded by each WIB, etc.), but also specific information about each individual award in the past year. Because we are not sampling the WIBs, we have not needed to provide a sampling plan.

The survey will ask each WIB a small number of questions. These questions will be:

• Name of the organization receiving the grant/contract/cooperative agreement

• City where organization is located

• State where organization is located

• Amount of the grant/contract/cooperative agreement

• Type of organization receiving award (e.g., state and local government, educational institution, faith-based organization).

This survey will be administered to the state and local WIBs using the internet.

Ira L. Mills,
Departmental Clearance Officer.

[FR Doc. 05-21091 Filed 10-20-05; 8:45 am]

BILLING CODE 4510-23-P